DEPARTMENT OF LABOR

Employment and Training Administration

[TA-W-74,839]

St. John Knits, Inc., Irvine, CA; Amended Certification Regarding Eligibility To Apply for Worker Adjustment Assistance

In accordance with Section 223 of the Trade Act of 1974, as amended (“Act”), 19 U.S.C. 2273, the Department of Labor issued a Certification of Eligibility to Apply for Worker Adjustment Assistance on January 31, 2011, applicable to workers of St. John Knits, Inc., Irvine, California. The workers are engaged in the production of women's apparel. The notice was published in the Federal Register on February 24, 2011 (76 FR 10397).

At the request of the State Agency, the Department reviewed the certification for workers of the subject firm. The review shows that on August 18, 2008, a certification of eligibility to apply for adjustment assistance was issued for all workers of St. John Knits, Sample Manufacturing Department, Irvine, California, separated from employment on or after June 11, 2007 through August 18, 2010. The notice was published in the Federal Register on September 3, 2008 (73 FR 51529).

In order to avoid an overlap in worker group coverage, the Department is amending the impact dates established for TA-W-74,839. The impact date applicable to workers of the Sample Manufacturing Department is August 19, 2010. The impact date applicable to all other workers of St. Johns Knits, Inc., Irvine, California, is November 3, 2009.

The amended notice applicable to TA-W-75,839 is hereby issued as follows:

All workers of St. John Knits, Inc., Sample Manufacturing Department, Irvine, California, who became totally or partially separated from employment on or after August 19, 2010, through January 31, 2013, all other workers of St. John Knits, Inc., Irvine, California, who became totally or partially separated from employment on or after November 3, 2009, through January 31, 2013, and all workers in the group threatened with total or partial separation from January 31, 2011 through January 31, 2013, are eligible to apply for adjustment assistance under Chapter 2 of Title II of the Trade Act of 1974, as amended.

Signed in Washington, DC, this 8th day of March 2011.
Del Min Amy Chen,
Certifying Officer, Office of Trade Adjustment Assistance.

[FR Doc. 2011-6800 Filed 3-22-11; 8:45 am]

BILLING CODE 4510-FN-P